OFFICE OF PERSONNEL MANAGEMENT

Excepted Service; September 2022

AGENCY: Office of Personnel Management.

ACTION: Notice.

SUMMARY: This notice identifies Schedule A, B, and C appointing authorities applicable to a single agency that were established or revoked from September 1, 2022 to September 30, 2022.

FOR FURTHER INFORMATION CONTACT: Julia Alford, Senior Executive Resources Services, Senior Executive Services and Performance Management, Employee Services, 202-936-3085.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during September 2022.

Schedule B

14. Department of Commerce (Sch B, 213.3214)

(d) National Telecommunication and Information Administration—

(1) Not to exceed 37 positions of GS-0850 Electrical Engineer, GS-0855 Electronics Engineer, or GS-0854 Computer Engineer in grades GS-11 through GS-15, or positions that require subject-matter expertise with telecommunications policy, 911 communication programs, broadband program specialists, environmental specialists, and spectrum policy and related programs. Employment under this authority may not exceed 2 years.

Schedule C

The following Schedule C appointing authorities were approved during September 2022.

Agency name | Organization name | Position title | Authorization No. | Effective date
DEPARTMENT OF AGRICULTURE | Office of the Secretary | Deputy White House Liaison | DA220162 | 09/13/2022
| Farm Service Agency | Chief of Staff | DA220156 | 09/15/2022
|  | State Executive Director—Arizona | DA220158 | 09/28/2022
DEPARTMENT OF COMMERCE | Office of International Trade Administration | Senior Advisor | DC220175 | 09/09/2022
| Office of the Assistant Secretary for Industry and Analysis | Senior Advisor | DC220176 | 09/09/2022
| National Telecommunications and Information Administration | Special Assistant for Public Engagement | DC220179 | 09/23/2022
| Bureau of Industry and Security | Deputy Director of Public Affairs | DC220180 | 09/23/2022
FEDERAL PERMITTING IMPROVEMENT STEERING COUNCIL | Federal Permitting Improvement Steering Council | Director of Public Engagement | FF220002 | 09/12/2022
CONSUMER FINANCIAL PROTECTION BUREAU | Office of the Director | Chief Technologist and Senior Advisor to the Director | FP220007 | 09/09/2022
DEPARTMENT OF DEFENSE | Office of the Assistant Secretary of Defense (Indo-Pacific Security Affairs) | Special Assistant | DD220182 | 09/20/2022
| Office of the Assistant Secretary of Defense (Space Policy) | Special Assistant | DD220183 | 09/20/2022
DEPARTMENT OF THE AIR FORCE | Office of Assistant Secretary Air Force, Installations, Environment, and Energy | Senior Advisor | DF220016 | 09/02/2022
DEPARTMENT OF THE ARMY | Office of the Deputy Under Secretary of Army | Special Assistant | DW220040 | 09/25/2022
DEPARTMENT OF EDUCATION | Office for Civil Rights | Senior Counsel | DB220090 | 09/10/2022
| Office of Legislation and Congressional Affairs | Senior Advisor, Oversight | DB220097 | 09/09/2022
| Office of Planning, Evaluation and Policy Development | Confidential Assistant | DB220102 | 09/29/2022
| Office of the Deputy Secretary | Senior Advisor, Innovation | DB220100 | 09/30/2022
| Office of the Secretary | Confidential Assistant | DB220096 | 09/09/2022
DEPARTMENT OF ENERGY | Office of Public Affairs | Deputy Press Secretary | DE220115 | 09/01/2022
| Office of the Assistant Secretary for Fossil Energy | Special Assistant | DE220117 | 09/02/2022
| Office of Science | Special Assistant | DE220122 | 09/02/2022
| Office of the Secretary | Special Assistant to the Deputy Chief of Staff | DE220131 | 09/22/2022
| Office of Policy | Special Assistant | DE220139 | 09/27/2022
ENVIRONMENTAL PROTECTION AGENCY | Office of the General Counsel Office of the Administrator | Attorney-Advisor (General) Senior Advisor to the Administrator | EP220076 EP220078 | 09/01/2022 09/08/2022
| Office of Public Engagement and Environmental Education | Public Engagement Specialist | EP220079 | 09/09/2022
| Office of Public Affairs | Senior Strategic Communications Advisor | EP220080 | 09/13/2022
|  | Public Affairs Specialist | EP220082 | 09/15/2022
|  | Digital Media Advisor | EP220085 | 09/22/2022
GENERAL SERVICES ADMINISTRATION | Office of Congressional and Intergovernmental Affairs | Policy Advisor | GS220025 | 09/21/2022
DEPARTMENT OF HEALTH AND HUMAN SERVICES | Office of Intergovernmental and External Affairs | Regional Director, San Francisco, CA, Region IX | DH220160 | 09/29/2022
| Office of the Assistant Secretary for Health | Senior Advisor (2) | DH220143 DH220158 | 09/10/2022 09/30/2022
| Office of the Assistant Secretary for Preparedness and Response | Senior Advisor | DH220159 | 09/23/2022
DEPARTMENT OF HOMELAND SECURITY | Office of Strategy, Policy, and Plans | Policy Advisor | DM220253 | 09/08/2022
| Cybersecurity and Infrastructure Security Agency | External Affairs Specialist | DM220217 | 09/19/2022
| Federal Emergency Management Agency | Senior Tribal National Advisor | DM220275 | 09/19/2022
| Office of the Secretary | Special Assistant to the Secretary | DM220291 | 09/19/2022
DEPARTMENT OF HOUSING AND URBAN DEVELOPMENT | Office of Congressional and Intergovernmental Relations | Congressional Relations Specialist Deputy Assistant Secretary | DU220063 DU220068 | 09/02/2022 09/28/2022
| Office of Public Affairs | Press Secretary | DU220064 | 09/02/2022
| Office of Public and Indian Housing | Senior Advisor | DU220070 | 09/28/2022
DEPARTMENT OF THE INTERIOR | Office of the Assistant Secretary—Policy, Management and Budget | Advisor | DI220084 | 09/02/2022
| Office of Surface Mining | Advisor | DI220089 | 09/21/2022
| Bureau of Reclamation | Senior Advisor | DI220091 | 09/21/2022
DEPARTMENT OF JUSTICE | Office of the Environment and Natural Resources Division | Senior Counsel | DJ220134 | 09/10/2022
| Office of Public Affairs | Special Assistant to the Director | DJ220136 | 09/22/2022
DEPARTMENT OF LABOR | Office of Congressional and Intergovernmental Affairs | Deputy Director, Intergovernmental Affairs | DL220075 | 09/09/2022
| Office of Employment and Training Administration | Deputy Advisor Senior Policy Advisor | DL220083 DL220082 | 09/08/2022 09/15/2022
| Office of the Assistant Secretary for Policy | Chief of Staff | DL220084 | 09/15/2022
NATIONAL ENDOWMENT FOR THE ARTS | National Endowment for the Arts | Administrative Assistant to the Chief of Staff | NA220004 | 09/08/2022
OFFICE OF MANAGEMENT AND BUDGET | Office of the Director | Tribal Advisor | BO220029 | 09/10/2022
| Office of Education, Income Maintenance and Labor Programs | Confidential Assistant | BO220030 | 09/21/2022
| Office of Legislative Affairs | Legislative Analyst | BO220031 | 09/21/2022
OFFICE OF PERSONNEL MANAGEMENT | Office of the Director | Executive Assistant to the Chief of Staff | PM220048 | 09/09/2022
| Office of Communications | Deputy Director, Office of Communications | PM220051 | 09/30/2022
OFFICE OF SCIENCE AND TECHNOLOGY POLICY | Office of Science and Technology Policy | Communication Planning and Outreach Lead | TS220005 | 09/09/2022
UNITED STATES INTERNATIONAL DEVELOPMENT FINANCE CORPORATION | Overseas Private Investment Corporation | Advisor, Office the Chief Executive | PQ220008 | 09/25/2022
SECURITIES AND EXCHANGE COMMISSION | Office of the Chairman | Program Specialist | SE220014 | 09/21/2022
| Office of Commissioner Uyeda | Confidential Assistant | SE220015 | 09/21/2022
SMALL BUSINESS ADMINISTRATION | Office of Congressional and Legislative Affairs | Deputy Associate Administrator, Congressional Legislative Affairs (Senate) | SB220044 | 09/07/2022
SOCIAL SECURITY ADMINISTRATION | Office of the Commissioner | Senior Advisor | SZ220019 | 09/30/2022
DEPARTMENT OF STATE | Office of Global Criminal Justice | Senior Advisor | DS220071 | 09/09/2022
| Office of Global Women's Issues | Special Assistant | DS220079 | 09/29/2022
| Office of the Secretary | Staff Assistant | DS220074 | 09/21/2022
| Office of the Under Secretary for Economic Growth, Energy, and the Environment | Deputy Chief Economist | DS220072 | 09/09/2022
DEPARTMENT OF TRANSPORTATION | Office of the Secretary | White House Liaison | DT220109 | 09/30/2022
| Office of the Executive Secretariat | Director, Executive Secretariat | DT220110 | 09/30/2022
DEPARTMENT OF THE TREASURY | Office of the Assistant Secretary (Tax Policy) | Senior Advisor | DY220146 | 09/30/2022
| Office of the Assistant Secretary (Legislative Affairs) | Special Assistant | DY220147 | 09/30/2022
| Secretary of the Treasury | Special Advisor | DY220148 | 09/30/2022
| Office of the Assistant Secretary (Public Affairs) | Press Assistant | DY220149 | 09/30/2022

The following Schedule C appointing authorities were revoked during September 2022.

Agency name | Organization name | Position title | Request No. | Vacate date
CONSUMER FINANCIAL PROTECTION BUREAU | Office of the Director | Chief Technologist and Senior Advisor to the Director | FP220002 | 09/25/2022
DEPARTMENT OF AGRICULTURE | Office Rural Development | State Director—Kentucky | DA220119 | 09/08/2022
|  | State Director—Wyoming | DA220075 | 09/08/2022
DEPARTMENT OF EDUCATION | Office of Planning, Evaluation and Policy Development | Chief of Staff | DB210058 | 09/24/2022
| Office of Postsecondary Education | Confidential Assistant | DB210118 | 09/24/2022
|  | Special Assistant (2) | DB210127 DB220031 | 09/24/2022 09/10/2022
| Office of the Secretary | Confidential Assistant | DB210121 | 09/10/2022
|  | Chief of Staff | DB210134 | 09/10/2022
|  | Special Assistant | DB220042 | 09/10/2022
DEPARTMENT OF ENERGY | Grid Deployment Office | Special Assistant | DE220069 | 09/20/2022
DEPARTMENT OF HEALTH AND HUMAN SERVICES | Indian Health Service | Senior Advisor to the Director | DH210073 | 09/24/2022
| Office of the Assistant Secretary for Legislation | Senior Advisor, Oversight | DH220094 | 09/24/2022
DEPARTMENT OF THE AIR FORCE | Office of the Under Secretary | Special Assistant | DF220010 | 09/02/2022
DEPARTMENT OF THE ARMY | Office of the General Counsel | Attorney Advisor to the Army General Counsel | DW210009 | 09/10/2022
DEPARTMENT OF THE INTERIOR | Office of the Assistant Secretary—Fish and Wildlife and Parks | Special Assistant | DI210098 | 09/03/2022
ENVIRONMENTAL PROTECTION AGENCY | Office of the Associate Administrator for Congressional and Intergovernmental Relations | Special Assistant | EP210097 | 09/09/2022
EXPORT-IMPORT BANK | Office of Congressional and Intergovernmental Affairs | Senior Vice President Congressional and Intergovernmental Affairs | EB210011 | 09/15/2022
OFFICE OF PERSONNEL MANAGEMENT | Office of Congressional, Legislative, and Intergovernmental Affairs Office of the Director | Deputy Director Confidential Assistant | PM220024 PM220011 | 09/24/2022 09/10/2022

Authority: 5 U.S.C. 3301 and 3302; E.O. 10577, 3 CFR, 1954-1958 Comp., p. 218.

Office of Personnel Management.
Kayyonne Marston,
Federal Register Liaison.

[FR Doc. 2023-13630 Filed 6-26-23; 8:45 am]

BILLING CODE 6325-39-P